DEPARTMENT OF VETERANS AFFAIRS

Voluntary Service National Advisory Committee, Notice of Meeting

The Department of Veterans Affairs (VA) gives notice under the Federal Advisory Committee Act, 5 U.S.C. 10, that the VA Voluntary Service (VAVS) National Advisory Committee (NAC) will meet on April 26-28, 2023 at the DoubleTree by Hilton located at 3203 Quebec Street in Denver, Colorado 80207. The meeting sessions will begin and end as follows:

Date(s) | Time(s)
Wednesday, April 26, 2023 | 9:00 a.m. to 7:30 p.m. Mountain Time (MT).
Thursday, April 27, 2023 | 8:30 a.m. to 4:30 p.m. MT.
Friday, April 28, 2023 | 9:00 a.m. to 5:00 p.m. MT.

The meeting sessions are open to the public.

The Committee, comprised of 56 major Veteran, civic, and service organizations, advises the Secretary, through the Under Secretary for Health, on the coordination and promotion of volunteer activities and strategic partnerships within VA health care facilities, in the community, and on matters related to volunteerism and charitable giving.

Agenda topics will include the NAC goals and objectives; review of minutes from the April 27-29, 2022 meeting; an update on VA Center for Development and Civic Engagement (CDCE) activities; Veterans Health Administration update; subcommittee reports; review of standard operating procedures; review of organization data; Federal Advisory Committee Act training provided by the VA Advisory Committee Management Office; embracing whole health and creative arts; inclusion, diversity, equity and access; caregiver volunteering; safe integration of volunteers in impactful assignments; PACT and COMPACT Act implications; and any new business.

The public may submit written statements for the Committee's review to Mr. Prince Taylor, Designated Federal Officer, VA Center for Development and Civic Engagement (15CDCE), Department of Veterans Affairs, 810 Vermont Avenue NW, Washington, DC 20420, or email at Prince.Taylor@VA.gov. Any member of the public wishing to attend the meeting or seeking additional information should contact Mr. Taylor at 202-461-6948.

Dated: April 10, 2023.
Jelessa M. Burney,
Federal Advisory Committee Management Officer.

[FR Doc. 2023-07827 Filed 4-12-23; 8:45 am]

BILLING CODE P